INTERNATIONAL TRADE COMMISSION

[Investigation Nos. 701-TA-710-711 and 731-TA-1673-1674 (Final)]

2,4-Dichlorophenoxyacetic Acid (“2,4-D”) From China and India

Determinations

On the basis of the record ¹ developed in the subject investigations, the United States International Trade Commission (“Commission”) determines, pursuant to the Tariff Act of 1930 (“the Act”), that an industry in the United States is materially injured by reason of imports of 2,4-Dichlorophenoxyacetic acid (“2,4-D”) from China and India, provided for in subheading 2918.99.20 of the Harmonized Tariff Schedule of the United States, that have been found by the U.S. Department of Commerce (“Commerce”) to be sold in the United States at less than fair value (“LTFV”) and subsidized by the governments of China and India.²

¹ The record is defined in § 207.2(f) of the Commission's Rules of Practice and Procedure (19 CFR 207.2(f)).

² 90 FR 14957, 14961, 14964, and 14969 (April 7, 2025).

Background

The Commission instituted these investigations effective March 14, 2024, following receipt of petitions filed with the Commission and Commerce by Corteva Agriscience LLC (Indianapolis, Indiana). The final phase of the investigations was scheduled by the Commission following notification of preliminary determinations by Commerce that imports of 2,4-D from China and India were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 26, 2024 (89 FR 93339). The Commission conducted its hearing on April 1, 2025. All persons who requested the opportunity were permitted to participate.

The Commission made these determinations pursuant to §§ 705(b) and 735(b) of the Act (19 U.S.C. 1671d(b) and 19 U.S.C. 1673d(b)). It completed and filed its determinations in these investigations on May 16, 2025. The views of the Commission are contained in USITC Publication 5618 (May 2025), entitled 2,4-Dichlorophenoxyacetic Acid (“2,4-D”) from China and India: Investigation Nos. 701-TA-710-711 and 731-TA-1673-1674 (Final).

By order of the Commission.
Issued: May 16, 2025.
Lisa Barton,
Secretary to the Commission.

[FR Doc. 2025-09176 Filed 5-21-25; 8:45 am]

BILLING CODE 7020-02-P